DEPARTMENT OF ENERGY

Federal Energy Regulatory Commission

Combined Notice of Filings #1

Take notice that the Commission received the following electric rate filings:

Docket Numbers: ER10-2137-030; ER10-2131-030; ER10-2138-031; ER10-2139-031; ER10-2140-030; ER10-2141-030; ER14-2187-024; ER14-2799-021; ER15-103-015; ER18-140-014; ER21-258-007; ER22-2144-006; ER22-2474-002; ER22-2475-002; ER23-2668-001.

Applicants: Richfield Solar Energy LLC, Top Hat Wind Energy Holdings LLC, Top Hat Wind Energy LLC, Invenergy Nelson Expansion LLC, Todd Solar LLC, Lackawanna Energy Center LLC, Invenergy Nelson LLC, Beech Ridge Energy Storage LLC, Grand Ridge Energy Storage LLC, Grand Ridge Energy V LLC, Grand Ridge Energy IV LLC, Grand Ridge Energy III LLC, Grand Ridge Energy II LLC, Grand Ridge Energy LLC, Beech Ridge Energy LLC.

Description: Notice of Change in Status of Beech Ridge Energy LLC, et al.

Filed Date: 1/31/24.

Accession Number: 20240131-5611.

Comment Date: 5 p.m. ET 2/21/24.

Docket Numbers: ER10-2475-031; ER10-1520-013; ER10-1521-013; ER10-2474-030; ER10-3246-024; ER13-1266-048; ER15-2211-045; ER20-2493-008; ER22-1385-007; ER23-674-004; ER23-676-004.

Applicants: BHE Power Watch, LLC,BHE Wind Watch, LLC,BHER Market Operations, LLC.,OTCF, LLC, MidAmerican Energy Services, LLC, CalEnergy, LLC, PacifiCorp, Sierra Pacific Power Company, Occidental Power Marketing, L.P., Occidental Power Services, Inc., Nevada Power Company.

Description: Notice of Non-Material Change in Status of Nevada Power Company, et al.

Filed Date: 1/31/24.

Accession Number: 20240131-5622.

Comment Date: 5 p.m. ET 2/21/24.

Docket Numbers: ER10-2727-008; ER10-1451-010; ER10-1467-011; ER10-1469-011; ER10-1473-011; ER10-1474-011; ER10-1478-013; ER10-2687-010; ER10-2688-013; ER10-2689-014; ER10-2728-012; ER11-3907-004.

Applicants: The Toledo Edison Company, Green Valley Hydro, LLC, West Penn Power Company, The Potomac Edison Company, Monongahela Power Company, Pennsylvania Electric Company, Metropolitan Edison Company, Pennsylvania Power Company, The Cleveland Electric Illuminating Company, Ohio Edison Company, Jersey Central Power & Light, Allegheny Energy Supply Company, LLC.

Description: Notice of Non-Material Change in Status of Allegheny Energy Supply Company, LLC, et al.

Filed Date: 1/31/24.

Accession Number: 20240131-5620.

Comment Date: 5 p.m. ET 2/21/24.

Docket Numbers: ER11-4436-011; ER10-2472-011; ER10-2473-012.

Applicants: Cheyenne Light, Fuel and Power Company, Black Hills Wyoming, LLC, Black Hills Power, Inc.

Description: Notice of Change in Status of Black Hills Power, Inc., et al.

Filed Date: 1/31/24.

Accession Number: 20240131-5621.

Comment Date: 5 p.m. ET 2/21/24.

Docket Numbers: ER11-4626-004.

Applicants: Mt. Poso Generation Company, LLC.

Description: Notice of Non-Material Change in Status of Mt. Poso Cogeneration Company.

Filed Date: 1/31/24.

Accession Number: 20240131-5615.

Comment Date: 5 p.m. ET 2/21/24.

Docket Numbers: ER17-1394-009; ER10-1328-005; ER10-1330-010; ER10-1331-005; ER10-1332-005; ER10-1427-009; ER10-2460-023; ER10-2461-024; ER10-2522-006; ER10-2567-006; ER10-2917-027; ER10-2918-026; ER10-2920-026; ER10-2922-027; ER11-2383-023; ER12-161-029; ER12-645-028; ER12-682-024; ER12-1502-008; ER12-1504-008; ER12-2313-008; ER13-17-022; ER13-1139-025; ER14-25-023; ER14-1964-019; ER14-2630-018; ER16-61-005; ER16-63-005; ER16-64-005; ER16-141-007; ER16-287-013; ER16-355-005; ER16-2527-005; ER17-2-006; ER17-360-004; ER17-361-004; ER17-362-004; ER17-482-013; ER17-539-003; ER17-540-003; ER17-2336-008; ER19-89-001; ER19-529-015; ER19-1074-015; ER19-1075-015; ER19-2684-003; ER20-1447-009; ER20-1487-004; ER20-1806-006; ER20-2028-004; ER22-192-008; ER22-398-002; ER22-1010-007; ER22-1627-003; ER22-1883-003; ER22-2042-003; ER23-921-002; ER23-1889-001; ER23-1939-002; ER23-2203-002; ER23-2363-002; ER23-2481-002; ER24-443-001; ER24-444-001.

Applicants: Deriva Energy Beckjord Storage LLC, Deriva Energy Services, LLC, Crystal Hill Solar, LLC, HXOap Solar One, LLC, Wildflower Solar, LLC, Pike Solar LLC, Sweetland Wind Farm, LLC, Black Mesa Energy, LLC, Jackpot Holdings, LLC, Ledyard Windpower, LLC, AM Wind Repower LLC, TerraForm IWG Acquisition Holdings II, LLC, Mesa Wind Power LLC, Evolugen Trading and Marketing LP, Bitter Ridge Wind Farm, LLC, Catalyst Old River Hydroelectric Limited Partnership, Frontier Windpower II, LLC, Brookfield Energy Marketing US LLC, Palmer Solar, LLC, Brookfield Renewable Energy Marketing US LLC, Brookfield Energy Marketing Inc., Brookfield Renewable Trading and Marketing LP, North Rosamond Solar, LLC, Shoreham Solar Commons LLC, Wildwood Solar II, LLC, Wildwood Solar I, LLC,BREG Aggregator LLC, Rio Bravo Solar II, LLC, Pumpjack Solar I, LLC, Rio Bravo Solar I, LLC, Frontier Windpower, LLC, Caprock Solar I LLC, Colonial Eagle Solar, LLC, BIF III Holtwood LLC, Conetoe II Solar, LLC, Tallbear Seville LLC, Seville Solar Two, LLC, Seville Solar One LLC, Regulus Solar, LLC,LSP Safe Harbor Holdings, LLC, Prairie Breeze Wind Energy LLC, Imperial Valley Solar 1, LLC, Niagara Wind Power, LLC, Laurel Hill Wind Energy, LLC, Cimarron Windpower II, LLC, Ironwood Windpower, LLC, Erie Wind, LLC, California Ridge Wind Energy LLC, Bishop Hill Energy LLC, Safe Harbor Water Power Corporation, Hawks Nest Hydro LLC, Erie Boulevard Hydropower, L.P., Carr Street Generating Station, L.P., Brookfield Power Piney & Deep Creek LLC, Kit Carson Windpower, LLC, Top of the World Wind Energy, LLC, Canandaigua Power Partners II, LLC, Canandaigua Power Partners, LLC, Brookfield Energy Marketing LP, Three Buttes Windpower, LLC, Silver Sage Windpower, LLC, North Allegheny Wind, LLC, Happy Jack Windpower, LLC, 83WI 8me, LLC.

Description: Notice of Non-Material Change in Status of 83WI 8me, LLC, et al.

Filed Date: 1/31/24.

Accession Number: 20240131-5619.

Comment Date: 5 p.m. ET 2/21/24.

Docket Numbers: ER19-1865-003; ER19-1866-003; ER19-1867-003; ER19-1868-003; ER19-1869-003; ER19-1870-003; ER19-1871-003; ER19-1872-003; ER19-2140-004; ER19-2141-004; ER19-2142-004; ER19-2143-004; ER19-2144-004; ER19-2145-004; ER19-2146-004; ER19-2147-004; ER19-2148-005.

Applicants: Heritage Power Marketing, LLC, Mountain Power, LLC, Warren Generation, LLC, Portland Power, LLC, Sayreville Power, LLC, Gilbert Power, LLC, Brunot Island Power, LLC, New Castle Power, LLC, Shawville Power, LLC, Tolna Power, LLC, Titus Power, LLC, Shawnee Power, LLC, Orrtanna Power, LLC, Niles Power, LLC, Hunterstown Power, LLC, Hamilton Power, LLC, Blossburg Power, LLC.

Description: Notice of Change in Status of Blossburg Power, LLC, et al.

Filed Date: 1/31/24.

Accession Number: 20240131-5612.

Comment Date: 5 p.m. ET 2/21/24.

Docket Numbers: ER19-2716-003; ER19-2717-003; ER20-1398-002; ER20-1399-003; ER21-2722-003; ER21-2886-003; ER21-2887-002; ER22-1884-001; ER22-1885-002; ER23-1504-001.

Applicants: Partin Solar LLC, South Portland ESS, LLC, Sanford ESS, LLC, Leicester Street Solar, LLC, Old Middleboro Road Solar, LLC, E. BarreCo Corp LLC, Rumford ESS, LLC, Ocean State BTM, LLC, Madison ESS, LLC, Madison BTM, LLC.

Description: Notice of Change in Status of Madison BTM, LLC, et al.

Filed Date: 1/31/24.

Accession Number: 20240131-5610.

Comment Date: 5 p.m. ET 2/21/24.

Docket Numbers: ER22-2784-003; ER14-41-010; ER14-42-010; ER16-498-009; ER16-499-009; ER16-500-009; ER16-2277-003; ER16-2289-004; ER18-1174-004; ER20-2448-005; ER21-133-005; ER21-736-006; ER21-1962-006; ER21-2634-004.

Applicants: Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC, MN8 Energy Marketing LLC.

Description: Notice of Non-Material Change in Status of MN8 Energy Marketing LLC, et al.

Filed Date: 1/31/24.

Accession Number: 20240131-5613.

Comment Date: 5 p.m. ET 2/21/24.

Docket Numbers: ER23-1772-001.

Applicants: Fox Squirrel Solar LLC.

Description: Notice of Non-Material Change in Status of Fox Squirrel Solar LLC.

Filed Date: 1/31/24.

Accession Number: 20240131-5616.

Comment Date: 5 p.m. ET 2/21/24.

Docket Numbers: ER23-2947-002.

Applicants: Midcontinent Independent System Operator, Inc., Montana-Dakota Utilities Co.

Description: Tariff Amendment: Midcontinent Independent System Operator, Inc. submits tariff filing per 35.17(b): 2024-02-01_Additional Amendment MDU Depreciation Rates related to Retail Rates to be effective 10/1/2023.

Filed Date: 2/1/24.

Accession Number: 20240201-5110.

Comment Date: 5 p.m. ET 2/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 2, 2024.
Debbie-Anne A. Reese,
Acting Secretary.

[FR Doc. 2024-02608 Filed 2-7-24; 8:45 am]

BILLING CODE 6717-01-P